DEPARTMENT OF EDUCATION

Office of Postsecondary Education; Overview Information; Minority Science and Engineering Improvement Program (MSEIP); Notice Inviting Applications for New Awards for Fiscal Year (FY) 2004

Catalog of Federal Domestic Assistance (CFDA) Number: 84.120A.

DATES:

Applications Available: January 28, 2004.

Deadline for Transmittal of Applications: March 12, 2004.

Deadline for Intergovernmental Review: May 11, 2004.

Eligible Applicants: There are three types of MSEIP projects, each with a different set of eligible applicants. For institutional, design, and special projects described in 34 CFR 637.12 through 637.14, eligible applicants include public and private nonprofit minority institutions of higher education as defined in Section 361(1) and (2) of the Higher Education Act of 1965, as amended (HEA) and described later in this notice. For special projects described in 34 CFR 637.14(b) and (c), eligible applicants include nonprofit science-oriented organizations, professional scientific societies, institutions of higher education, and consortia of organizations as defined in section 361(3) and (4) of the HEA and described later in this notice. For cooperative projects described in 34 CFR 637.15, eligible applicants include groups of nonprofit accredited colleges and universities whose primary fiscal agent is an eligible minority institution as defined in 34 CFR 637.4(b).

Note: A minority institution is defined in 34 CFR 637.4(b) as an accredited college or university whose enrollment of a single minority group or combination of minority groups exceeds 50 percent of the college's or university's total enrollment.

Estimated Available Funds: Although Congress has not enacted a final appropriation for FY 2004, the Department is inviting applications for this competition now so that it may be prepared to make awards following enactment of that final appropriation. Based on the congressional action to date, we estimate $4.6 million will be available for new awards under this program for FY 2004. The actual level of funding, if any, depends on final congressional action. Additional funding information is provided in the following chart.

Note: The Department is not bound by any estimates in this notice. Applicants should periodically check the MSEIP's Web site for further information on this program. The address is: http://www.ed.gov/programs/iduesmsi/index.html

Project Period: Up to 36 months.

Full Text of Announcement

I. Funding Opportunity Description

Purpose of Program: The MSEIP is designed to effect long-range improvement in science and engineering education at predominantly minority institutions and to increase the flow of underrepresented ethnic minorities, particularly minority women, into scientific and technological careers.

Program Authority: 20 U.S.C. 1067-1067k.

Applicable Regulations: (a) The Education Department General Administrative Regulations (EDGAR) in 34 CFR parts 74, 75, 77, 79, 82, 84, 85, 86, 97, 98, and 99. (b) The regulations for this program in 34 CFR part 637.

Note: The regulations in 34 CFR part 86 apply to institutions of higher education only.

II. Award Information

Type of Award: Discretionary grants.

Estimated Available Funds: Although Congress has not enacted a final appropriation for FY 2004, the Department is inviting applications for this competition now so that it may be prepared to make awards following enactment of that final appropriation. Based on the congressional action to date, we estimate $4.6 million will be available for new awards under this program for FY 2004. The actual level of funding, if any, depends on final congressional action.

Estimated Range of Awards: See chart.

Estimated Average Size of Awards: See chart.

Estimated Total Number of Awards: See chart.

Note: The Department is not bound by any estimates in this notice. Applicants should periodically check the MSEIP's Web site for further information on this program. The address is: http://www.ed.gov/programs/iduesmsi/index.html

Project Period: Up to 36 months.

III. Eligibility Information

1. Eligible Applicants: (a) For institutional, design, and special projects described in 34 CFR 637.12 through 637.14, eligible applicants include public and private nonprofit minority institutions of higher education as defined in Section 361(1) and (2) of the HEA. Section 361(1) and (2) define such institutions as:

(1) Public and private nonprofit institutions of higher education that:

(A) Award baccalaureate degrees; and

(B) Are minority institutions;

(2) Public or private nonprofit institutions of higher education that:

(A) Award associates degrees; and

(B) Are minority institutions that:

(i) Have a curriculum that includes science or engineering subjects; and

(ii) Enter into a partnership with public or private nonprofit institutions of higher education that award baccalaureate degrees in science and engineering;

(b) For special projects described in 34 CFR 637.14(b) and (c), eligible applicants include nonprofit science-oriented organizations, professional scientific societies, institutions of higher education, and consortia of organizations. Section 361(3) and (4) of the HEA describes these types of entities as:

(3) Nonprofit science-oriented organizations, professional scientific societies, and institutions of higher education that award baccalaureate degrees, that:

(A) Provide a needed service to a group of minority institutions; or

(B) Provide in-service training for project directors, scientists, and engineers from minority institutions; or

(4) Consortia of organizations that provide needed services to one or more minority institutions, the membership of which may include:

(A) Institutions of higher education that have a curriculum in science or engineering;

(B) Institutions of higher education that have a graduate or professional program in science or engineering;

(C) Research laboratories of, or under contract with, the Department of Energy;

(D) Private organizations that have science or engineering facilities; or

(E) Quasi-governmental entities that have a significant scientific or engineering mission.

(c) For cooperative projects described in 34 CFR 637.15, eligible entitles include groups of nonprofit accredited colleges and universities whose primary fiscal agent is an eligible minority institution as defined in 34 CFR 637.4(b).

Note: A minority institution is defined in 34 CFR 637.4(b) as an accredited college or university whose enrollment of a single minority group or combination of minority groups exceeds 50 percent of the total enrollment.

2. Cost Sharing or Matching: This program has no cost sharing or matching requirements.

IV. Application and Submission Information

1. Address to Request Application Package: Dr. Bennie Samuels, Ms. Mary Payne or Ms. Carolyn Proctor, Institutional Development and Undergraduate Education Service, U.S. Department of Education, 1990 K Street, NW., 6th floor, Washington, DC 20006-8517. Telephone: (202) 502-7777 or by e-mail: OPE_MSEIP@ed.gov

If you use a telecommunications device for the deaf (TDD), you may call the Federal Information Relay Service (FIRS) at 1-800-877-8339.

Individuals with disabilities may obtain a copy of the application package in an alternative format (e.g., Braille, large print, audiotape, or computer diskette) by contacting the program contact persons listed in this section.

2. Content and Form of Application Submission: Requirements concerning the content of an application, together with the forms you must submit, are in the application package for this program.

Page Limit: We have established a mandatory page limit for the narrative portion for each type of project application. The page limits are as follows:

Design Project Application: The narrative portion must not exceed the equivalent of 10 double-spaced pages.

Institutional and Cooperative Project Application: The narrative portions must not exceed the equivalent of 20 double-spaced pages.

Special Project Application: The narrative portion must not exceed the equivalent of 15 double-spaced pages. You must use the following standards:

• A “page” is 8.5″ x 11″, on one side only, with 1″ margins at the top, bottom, and both sides.

• Double space (no more than three lines per vertical inch) all text in the application narrative, including titles and headings. You may single space the abstract, footnotes, quotations, references, captions, tables, and forms (including the ED Forms), however, you must still use font size 12.

• Use a font that is size 12.

We will reject your application if—

• You apply these standards and exceed the page limit; or

• You apply other standards and exceed the equivalent of the page limit.

3. Submission Dates and Times:

Applications Available: January 28, 2004.

Deadline for Transmittal of Applications: March 12, 2004.

Deadline for Intergovernmental Review: May 11, 2004.

4. Intergovernmental Review: This program is subject to Executive Order 12372 and the regulations in 34 CFR part 79. Information about Intergovernmental Review of Federal Programs under Executive Order 12372 is in the application package for this program.

5. Funding Restrictions:

(a) Executive Order 13202. Applicants that apply for construction funds under MSEIP must comply with Executive Order 13202, signed by President Bush on February 17, 2001 and amended on April 6, 2001. This Executive order provides that recipients of Federal Construction funds may not “require or prohibit bidders, offerors, contractors, or subcontractors to enter into or adhere to agreements with one or more labor organizations, on the same or other construction project(s)” or “otherwise discriminate against bidders, offerors, contractors, or subcontractors for becoming or refusing to become or remain signatories or otherwise adhere to agreements with one or more labor organizations, on the same or other construction project(s).” However, the Executive order does not prohibit contractors or subcontractors from voluntarily entering into these agreements.

(b) We reference additional regulations outlining funding restrictions in the Applicable Regulations section of this notice.

6. Other Submission Requirements: Instructions and requirements for the transmittal of applications by mail or by hand (including a courier service or commercial carrier) are in the application package for this program. Application Procedures: The Government Paperwork Elimination Act (GPEA) of 1998 (Pub. L. 105-277) and the Federal Financial Assistance Management Improvement Act of 1999 (Pub. L. 106-107) encourage us to undertake initiatives to improve our grant processes. Enhancing the ability of individuals and entities to conduct business with us electronically is a major part of our response to these Acts. Therefore, we are taking steps to adopt the Internet as our chief means of conducting transactions in order to improve services to our customers and to simplify and expedite our business processes.

Some of the procedures in these instructions for transmitting applications differ from those in the Education Department General Administrative Regulations (EDGAR) (34 CFR 75.102). Under the Administrative Procedure Act (5 U.S.C. 553), the Department generally offers interested parties the opportunity to comment on proposed regulations. However, these amendments make procedural changes only and do not establish new substantive policy. Therefore, under 5 U.S.C. 553(b)(A), the Secretary has determined that proposed rulemaking is not required.

We are requiring that applications for grants under the MSEIP—CFDA Number 84.120A be submitted electronically using the Electronic Grant Application System (e-Application) available through the Department's e-GRANTS system. The e-GRANTS system is accessible through its portal page at: http://e-grants.ed.gov

If you are unable to submit an application through the e-GRANTS system, you may submit a written request for a waiver of the electronic submission requirement. In your request, you should explain the reason or reasons that prevent you from using the Internet to submit your application. Address your request to: Ms. Sandra Steed, U.S. Department of Education, 1990 K Street, NW., 6th Floor, Washington, DC 20006-8517. Please submit your request no later than two weeks before the application deadline date.

If, within two weeks of the application deadline date, you are unable to submit an application electronically, you must submit a paper application by the application deadline date in accordance with the transmittal instructions in the application package. The paper application must include a written request for a waiver documenting the reasons that prevented you from using the Internet to submit your application.

Pilot Project for Electronic Submission of Applications: We are continuing to expand our pilot project for electronic submission of applications to include additional formula grant programs and additional discretionary grant competitions. The MSEIP—CFDA 84.120A is one of the programs included in the pilot project. If you are an applicant under the MSEIP, you must submit your application to us in electronic format or receive a waiver.

The pilot project involves the use of e-Application. If you use e-Application, you will be entering data online while completing your application. You may not e-mail an electronic copy of a grant application to us. The data you enter online will be saved into a database. We shall continue to evaluate the success of e-Application and solicit suggestions for its improvement.

If you participate in e-Application, please note the following:

• When you enter the e-Application system, you will find information about its hours of operation. We strongly recommend that you do not wait until the application deadline date to initiate an e-Application package.

• You will not receive any additional point value because you submit a grant application in electronic format, nor will we penalize you if you submit an application in paper format.

• You must submit all documents electronically including the Application for Federal Assistance under MSEIP (OMB 1840-0109), Budget Information Non-Construction Programs (ED 524), and all necessary assurances and certifications.

• Your e-Application must comply with any page limit requirements described in this notice.

• After you electronically submit your application, you will receive an automatic acknowledgement, which will include a PR/Award number (an identifying number unique to your application).

• Within three working days after submitting your electronic application, fax a signed copy of the Application for Federal Assistance MSEIP, OMB 1840-0109, to the Application Control Center after following these steps:

1. Print the OMB 1840-0109, from e-Application.

2. The institution's Authorizing Representative must sign this form.

3. Place the PR/Award number in the upper right hand corner of the hard copy signature page of the OMB 1840-0109.

4. Fax the signed OMB 1840-0109 to the Application Control Center at (202) 260-1349.

• We may request that you give us original signatures on other forms at a later date.

Application Deadline Date Extension in Case of System Unavailability: If you are prevented from submitting your application on the application deadline date because the e-Application system is unavailable, we will grant you an extension of one business day in order to transmit your application electronically, by mail, or by hand delivery. We will grant this extension if—

1. You are a registered user of the e-Application system and you have initiated an e-Application for this competition; and

2. (a) The e-Application system is unavailable for 60 minutes or more between the hours of 8:30 a.m. and 3:30 p.m., Washington, DC time, on the application deadline date; or

(b) The e-Application system is unavailable for any period of time during the last hour of operation (that is, for any period of time between 3:30 p.m. and 4:30 p.m., Washington, DC time) on the application deadline date.

We must acknowledge and confirm these periods of unavailability before granting you an extension. To request this extension or to confirm our acknowledgement of any system unavailability, you may contact either (1) the persons listed elsewhere in this notice under For Further Information Contact (see VII. Agency Contact) or (2) the e-GRANTS help desk at 1-888-336-8930.

You may access the electronic grant application for the MSEIP at http://e-grants.ed.gov

Projects funded under MSEIP that include construction activity will be provided a copy of this Executive Order and will be asked to certify that they will adhere to it.

V. Application Review Information

Selection Criteria: The selection criteria for this program are in 34 CFR 637.32.

VI. Award Administration Information

1. Award Notices: If your application is successful, we notify your U.S. Representative and U.S. Senators and send you a Grant Award Notice (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118 and 34 CFR 75.720.

VII. Agency Contact

For Further Information Contact: Dr. Bennie Samuels, Ms. Mary Payne, or Ms. Carolyn Proctor, Institutional Development and Undergraduate Education Services, U.S. Department of Education, 1990 K Street, NW., 6th floor, Washington, DC 20006-8517. Telephone: (202) 502-7777, or by e-mail: OPE_MSEIP@ed.gov

If you use a telecommunication device for the deaf (TDD), you may call the Federal Information Relay Service (FIRS) at 1-800-877-8339.

Individuals with disabilities may obtain this document in an alternative format (e.g., Braille, large print, audiotape, or computer diskette) on request to the program contact persons listed in this section.

VIII. Other Information

Electronic Access to This Document: You may view this document, as well as all other documents of this Department published in the Federal Register, in text or Adobe Portable Document Format (PDF) on the Internet at the following site: http://www.ed.gov/news/fedregister/index.html

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html

Dated: January 22, 2004.
Sally L. Stroup,
Assistant Secretary, Office of Postsecondary Education.

[FR Doc. 04-1727 Filed 1-26-04; 8:45 am]

BILLING CODE 4000-01-P